DEPARTMENT OF COMMERCE

International Trade Administration

[A-570-114]

Certain Glass Containers from the People's Republic of China: Amended Preliminary Determination of Sales at Less Than Fair Value

AGENCY: Enforcement and Compliance, International Trade Administration, Department of Commerce.

SUMMARY: The Department of Commerce (Commerce) is amending the preliminary determination in the less-than-fair-value (LTFV) investigation of certain glass containers (glass containers) from the People's Republic of China (China) to correct certain significant ministerial errors.

DATES: Applicable June 1, 2020.

FOR FURTHER INFORMATION CONTACT: Lilit Astvatsatrian or Aleksandras Nakutis, AD/CVD Operations, Office IV, Enforcement and Compliance, International Trade Administration, U.S. Department of Commerce, 1401 Constitution Avenue NW, Washington, DC 20230; telephone: (202) 482-6412 or (202) 482-3147, respectively.

SUPPLEMENTARY INFORMATION:

Background

On April 29, 2020, the Department of Commerce (Commerce) published in the Federal Register the Preliminary Determination in the LTFV investigation of glass containers from China.¹ On May 5, 2020, separate rate applicants, Zibo Modern International Co., Ltd (Zibo Modern), Zibo Shelley Trading Co., Ltd (Zibo Shelley), and Zibo Sunfect International Trade Co., Ltd. (Zibo Sunfect) alleged that Commerce made certain ministerial errors in its Preliminary Determination.² On May 7, 2020, the American Glass Packaging Coalition (the petitioner), also submitted ministerial error comments.³ On May 8, 2020, Guangdong Huaxing Glass Co., Ltd. (Huaxing), rebutted the petitioner's ministerial error comments.⁴

¹ See Certain Glass Containers From the People's Republic of China: Preliminary Affirmative Determination of Sales at Less-Than-Fair-Value, Postponement of Final Determination and Extension of Provisional Measures, 85 FR 23759 (April 29, 2020) (Preliminary Determination).

² See Zibo Modern's Letter, “Glass Containers from China—Ministerial Error Comment,” dated May 5, 2020 (Zibo Modern's ME Allegation); see also Zibo Shelley's Letter, “Glass Containers from China—Ministerial Error Comment,” dated May 5, 2020 (Zibo Shelley's ME Allegation); and Zibo Sunfect's Letter, “Glass Containers from China—Ministerial Error Comment,” dated May 5, 2020 (Zibo Sunfect's ME Allegation).

³ See Petitioner's Letter, “Certain Glass Containers from the People's Republic of China: Ministerial Error

Comments,” dated May 7, 2020 (Petitioner's ME Allegation).

⁴ See Huaxing's Letter, “Certain Glass Containers China: Comment on Petitioner's Ministerial Error Allegation,” dated May 8, 2020.

Period of Investigation

The period of investigation is January 1, 2019 through June 30, 2019.

Scope of Investigation

The product covered by this investigation is glass containers from China. For a complete description of the scope of this investigation, see the appendix to this notice.

Legal Authority

When ministerial errors are alleged with respect to preliminary determinations in LTFV investigations, 19 CFR 351.224(e) provides that Commerce will analyze any allegations received and, if appropriate, correct any significant ministerial error by amending the preliminary determination. A ministerial error is defined in 19 CFR 351.224(f) as “an error in addition, subtraction, or other arithmetic function, clerical error resulting from inaccurate copying, duplication, or the like, and any other similar type of unintentional error which the Secretary considers ministerial.” A significant ministerial error is defined as a ministerial error, the correction of which, either singly or in combination with other errors, would result in: (1) a change of at least five absolute percentage points in, but not less than 25 percent of, the weighted-average dumping margin calculated in the original (erroneous) preliminary determination; or (2) a difference between a weighted-average dumping margin of zero or de minimis and a weighted-average dumping margin of greater than de minimis or vice versa.⁵

⁵ See 19 CFR 351.224(g).

Analysis of Ministerial Error Allegations

Zibo Modern, Zibo Shelley, and Zibo Sunfect allege that Commerce made ministerial errors in identifying certain of their producers in the exporter-producer combinations listed in the Preliminary Determination notice (i.e., Commerce used incorrect producer names or omitted certain producers). The petitioner alleges that Commerce failed to convert free-on-board Global Trade Atlas import values that were used as surrogate values into cost, insurance, and freight import values.

We agree with the allegations regarding the producers' names and have listed the correct producers' names (Xuzhou Supengyongxu Glass Products Co., Ltd. and Zibo Shelley Light Industrial Products Co., Ltd.) and included the omitted export-producer combinations for the exporter Zibo Sunfect International Trade Co., Ltd. in the rate table below. However, we find the petitioner's allegation is methodological, rather than ministerial, in nature as it relates to a calculation methodology. Hence, we have not made any changes to the Preliminary Determination based upon the petitioner's allegation. For details regarding these decisions, see the Ministerial Error Memorandum.⁶

⁶ See Memorandum, “Less-Than-Fair-Value Investigation of Certain Glass Containers from the People's Republic of China: Allegations of Ministerial Errors in the Preliminary Determination,” dated concurrently with this notice (Ministerial Error Memorandum).

Commerce's regulations do not permit rebuttals to ministerial error comments with respect to preliminary determinations.⁷ Therefore, we have not considered Huaxing's rebuttal comments.

⁷ See 19 CFR 351.224(c)(3).

Amended Preliminary Determination

Commerce has amended its Preliminary Determination to reflect the correct name of Zibo Modern's producer, Xuzhou Supengyongxu Glass Products Co., Ltd., and the correct name of Zibo Shelley's producer, Zibo Shelley Light Industrial Products Co., Ltd., and to add four exporter-producer combinations for the exporter Zibo Sunfect International Trade Co., Ltd. that were inadvertently omitted from the Preliminary Determination. The weighted-average dumping margin and cash deposit rate determined in the Preliminary Determination for the separate rate recipients, other than the mandatory respondents, apply to the exporter-producer combinations listed below. Specifically, Commerce is amending its Preliminary Determination by assigning the following weighted-average dumping margins to the exporter-producer combinations listed below:

Producer | Exporter | Estimated weighted average dumping margin (percent) | Cash deposit rate (adjusted for subsidy offsets) (percent)
Xuzhou Supengyongxu Glass Products Co., Ltd | Zibo Modern International Co., Ltd | 13.76 | 3.22
Zibo Shelley Light Industrial Products Co., Ltd | Zibo Shelley Trading Co., Ltd | 13.76 | 3.22
Deqing Hangxiang Glass Products Co., Ltd | Zibo Sunfect International Trade Co., Ltd | 13.76 | 3.22
Shandong Mounttai Sheng Li Yuan GLA | Zibo Sunfect International Trade Co., Ltd | 13.76 | 3.22
Wendeng Wensheng Glass Co., Ltd | Zibo Sunfect International Trade Co., Ltd | 13.76 | 3.22
Yantai NBC Glass Packaging Co. Ltd | Zibo Sunfect International Trade Co., Ltd | 13.76 | 3.22

Amended Cash Deposits and Suspension of Liquidation

The collection of cash deposits and suspension of liquidation will be revised for the exporter-producer combinations listed in the table above, in accordance with sections 733(d) and (f) of the Act, and 19 CFR 351.224. Because the rates are decreasing from the Preliminary Determination, the amended cash deposit rates will be effective retroactively to April 29, 2020, the date of publication of the Preliminary Determination. Parties will be notified of this determination, in accordance with sections 733(d) and (f) of the Act.

International Trade Commission Notification

In accordance with section 733(f) of the Act, we will notify the International Trade Commission of our amended preliminary determination.

Notification to Interested Parties

This amended preliminary determination is issued and published in accordance with sections 733(f) and 777(i)(1) of the Act and 19 CFR 351.224(e).

Dated: May 22, 2020.
Jeffrey I. Kessler,
Assistant Secretary for Enforcement and Compliance.

Appendix

Scope of the Investigation

The merchandise covered by this investigation is certain glass containers with a nominal capacity of 0.059 liters (2.0 fluid ounces) up to and including 4.0 liters (135.256 fluid ounces) and an opening or mouth with a nominal outer diameter of 14 millimeters up to and including 120 millimeters. The scope includes glass jars, bottles, flasks and similar containers; with or without their closures; whether clear or colored; and with or without design or functional enhancements (including, but not limited to, handles, embossing, labeling, or etching).

Excluded from the scope of the investigation are: (1) Glass containers made of borosilicate glass, meeting United States Pharmacopeia requirements for Type 1 pharmaceutical containers; (2) glass containers without “mold seams,” “joint marks,” or “parting lines;” and (3) glass containers without a “finish” (i.e., the section of a container at the opening including the lip and ring or collar, threaded or otherwise compatible with a type of closure to seal the container's contents, including but not limited to a lid, cap, or cork).

Glass containers subject to the investigation are specified within the Harmonized Tariff Schedule of the United States (HTSUS) under subheadings 7010.90.5005, 7010.90.5009, 7010.90.5015, 7010.90.5019, 7010.90.5025, 7010.90.5029, 7010.90.5035, 7010.90.5039, 7010.90.5045, 7010.90.5049, and 7010.90.5055. The HTSUS subheadings are provided for convenience and customs purposes only. The written description of the scope of the investigation is dispositive.

[FR Doc. 2020-11746 Filed 5-29-20; 8:45 am]

BILLING CODE 3510-DS-P